DEPARTMENT OF AGRICULTURE

Food and Nutrition Service

Agency Information Collection Activities: Notice of Emergency Approval of New Information Collection for Feasibility of Tribal Administration of Federal Nutrition Assistance Programs

AGENCY: Food and Nutrition Service (FNS), USDA.

ACTION: Notice.

SUMMARY: In accordance with the Paperwork Reduction Act of 1995, this notice announces FNS' intention to request emergency approval from the Office of Management and Budget (OMB) and invites the general public and other public agencies to comment on this proposed information collection. This is a new collection for the purpose of determining the interest among Indian Tribal Organizations (ITOs) in administering FNS programs, the capacity of ITOs to do so, and legislative and regulatory implications.

DATES: Written comments must be received on or before December 15, 2014.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Richard Lucas, Food and Nutrition Service, U.S. Department of Agriculture, 3101 Park Center Drive, Room 1014, Alexandria, VA 22302. Comments may also be submitted via fax to the attention of Richard Lucas at 703-305-2576 or via email to richard.lucas@fns.usda.gov. Comments will also be accepted through the Federal eRulemaking Portal. Go to http://www.regulations.gov, and follow the online instructions for submitting comments electronically.

All written comments will be available for public inspection at the office of the Food and Nutrition Service during regular business hours (8:30 a.m. to 5 p.m. Monday through Friday) located at 3101 Park Center Drive, Room 1014, Alexandria, Virginia 22302.

All responses to this notice will be summarized and included in the request for Office of Management and Budget approval. All comments will be a matter of public record.

FOR FURTHER INFORMATION CONTACT: Requests for additional information or copies of this information collection should be directed to Richard Lucas at 703-305-2119.

SUPPLEMENTARY INFORMATION: Title: Feasibility of Tribal Administration of Federal Nutrition Assistance Programs.

Form Number: N/A.

OMB Number: 0584—NEW.

Expiration Date: Not Yet Determined.

Type of Request: New Collection.

Abstract: The Agricultural Act of 2014 (Pub. L. 113-79) calls for a study to determine the feasibility of Tribal administration of Federal nutrition assistance programs in lieu of State agencies or other administrative entities. Specifically, the primary objectives of the study are:

Objective 1: Identify services, functions and activities associated with administering nutrition assistance programs.

Objective 2: Consult with Tribes to determine the extent of their interest in administering the programs.

Objective 3: Assess the capability of Indian Tribal Organizations (ITOs) to administer these programs based on the services, functions and activities associated with administering them and ITO interest in administering all or part of particular programs.

Objective 4: Identify statutory or regulatory changes, waivers or special provisions that would be needed for ITOs to administer each nutrition program.

There are 15 nutrition assistance programs that are overseen by Food and Nutrition Service (FNS) and administered by States. While few of these programs are totally administered by an ITO, several are administered with varying levels of shared state/ITO responsibility. FNS requests clearance to conduct, through IMPAQ International, LLC, two principal research activities:

A multi-modal survey of key administrative staff in all ITOs

Interviews with Tribal leaders and administrative staff

This information collection is being conducted by the Food and Nutrition Service, Office of Policy Support, and is authorized by the Agricultural Act of 2014 (Pub. L. 113-79).

The Act calls for a study to determine the feasibility of Tribal administration of Federal nutrition assistance programs in lieu of State agencies or other administrative entities.

Affected Public: State, Local and Tribal Government. Respondent groups identified include: (a) Tribal Leaders; (b) Tribal members who play an administrative role in onsite federal human services programs.

Estimated Number of Respondents Example: The total estimated number of respondents is 1,228. This includes: 1,132 Tribal Leaders (two per Federally-recognized Tribe), 20 percent of whom will complete surveys, 32 (n) of whom will participate in site visit interviews; and 96 program administrators who will participate in site visit interviews. Table 1 shows respondent and burden information.

Estimated Number of Responses per Respondent: Tribal Leaders will be asked to complete one survey. Thirty-two of those Tribal Leaders will also be interviewed during site visits. All other respondents (96 Tribal program administrators) will participate in one site visit interview.

Estimated Total Annual Responses: The total of 354 responses includes 226 survey responses and 128 interview responses.

Estimated Time per Response: The survey will take 0.5 hours. Time spent on surveys that are not completed is estimated to be 0.03 hours (2 minutes). On-site interviews will take 1.5 hours each.

Estimated Total Annual Burden on Respondents: 332.18 hours.

Dated: October 6, 2014.
Audrey Rowe,
Administrator, Food and Nutrition Service.

[FR Doc. 2014-24573 Filed 10-15-14; 8:45 am]

BILLING CODE 3410-30-P